DEPARTMENT OF JUSTICE

National Institute of Corrections

Solicitation for a Cooperative Agreement—Children of Incarcerated Parents: Arrest Through Pre-Adjudication

AGENCY: National Institute of Corrections, U.S. Department of Justice.

ACTION: Solicitation for a cooperative agreement.

SUMMARY: The National Institute of Corrections (NIC) is soliciting proposals from organizations, groups, or individuals to enter into a cooperative agreement for an 18-month period to begin no later than September 15, 2013. Work under this cooperative agreement will involve the development of a guiding framework document of promising practices regarding children of incarcerated parents. This project will examine the points of the criminal justice continuum from arrest and jail incarceration through the pre-adjudication phase; including: Pretrial, release, diversion, guilty adjudication, and reentry from local jails and how each of the decisions made throughout the pre-adjudication phase in the criminal justice system impacts this population. The project will further identify and highlight innovations and promising practices that have shown to positively impact children of incarcerated parents. This project will be a collaborative venture with the NIC Community Services Division.

NIC Opportunity Number: 13CS22. This number should appear in the reference line in your cover letter, on Standard Form 424 in section 11 with the title of your proposal, and in the right justified header of your proposal.

Number of Awards and Funds Available: Under this solicitation, one (1) award will be made. The total amount of funds available under this solicitation is $150,000.00. Funds awarded under this solicitation may only be used for activities directly related to the project as described herein unless otherwise amended in writing by NIC.

Applications: All applicants must be submitted electronically via http://www.grants.gov. Hand delivered, mailed, faxed, or emailed applications will not be accepted.

DATES: Application must be submitted before midnight on Wednesday, July 31, 2013.

Authority: Pub. L. 93-415.

Eligibility of Applicants: An eligible applicant is any public or private agency, educational institution, organization, individual, or team with expertise in the described areas.

SUPPLEMENTARY INFORMATION:

Background

NIC has worked closely with Federal, state and local jails, prisons, community corrections on a broad range of projects ranging from operational to research and innovation. Regarding Children of Incarcerated Parents, in December, 2000, Congress appropriated funds to the Department of Justice (DOJ), National Institute of Corrections (NIC) “to work with cooperative agreements to fund private sector or not for profit groups that have effective, tested programs to help children of prisoners.” To prepare for this solicitation, NIC convened a Children of Prisoner's planning meeting, inviting federal and state government, association, academic, and private provider representatives. Solicitations were announced in five (5) categories and eleven (11) awards were made. At the completion of the project, the National Council on Crime and Delinquency (NCCD) conducted an overall process evaluation and identified a series of recommendations specific to program development delivery and sustainability. Throughout the past decade rates of incarceration have increased and the sheer number of children impacted by parental incarceration has risen. A number of organizations and individuals have focused attention on this issue, however, less so from the criminal justice perspective. This solicitation for cooperative agreement will examine the points of the criminal justice continuum from arrest and jail incarceration through the pre-adjudication phase; including: Pretrial, release, diversion, guilty adjudication, and reentry from local jails and how each of the decisions made throughout, impact children of incarcerated parents. We are seeking organizations, groups, or individuals to identify and address the gaps of information that is in the local criminal justice system(s) in a document that can be used to improve practices during pre-adjudication and jail reentry.

Scope of Work: The intent of this solicitation is for the awardee to develop a guiding framework document of promising practices regarding children of incarcerated parents, from a criminal justice perspective. It is anticipated that in developing the framework document, the applicant will have strong familiarity with the criminal justice and social service systems. The awardee will demonstrate in the application the ability to complete all tasks outlined in the deliverables and project management and staffing plans commensurate with the project time frame. If consultants or partnerships are proposed, provide reasonable justification for inclusion. The proposed budget should be realistic and provide an adequate cost detail outline that represents accurate value in relation to the anticipated results. In addition, the awardee will research and identify up to four (4) sites that have demonstrated success with promising practices that can be incorporated into the framework document. This document will serve as a guideline for stakeholders, e.g., law enforcement, correctional agencies, court system, prosecutors, pretrial officers, and social services which demonstrate the importance of collaboration and highlight innovative practices for children of incarcerated parents from the point of arrest through the pre-adjudication phase of the continuum. The awardee will also create relevant materials to be used for educating stakeholders through the NIC Web site or at conference workshops and training sessions. Upon being awarded this solicitation, the awardee will meet with the project manager to discuss the expectations of the project and provide answers to any questions pertaining to the scope of work.

Deliverables: Project deliverables include (1) Conduct a review of existing literature and current research for Children of Incarcerated Parents and identify best and or promising practices; (2) Research and identify up to 4 sites that have demonstrated measured success with innovative and promising practices for Children of Incarcerated Parents. While onsite, engage stakeholders and translate lessons learned into the framework document. Stakeholders may include, but not be limited to: Law enforcement agencies, correctional agencies, court systems, prosecutors, pre-trial officers, and social services. The awardee is responsible for making and funding travel arrangements for onsite travel; (3) Development of a framework document that guides criminal justice organizations and related stakeholders with developing and implementing policies and practices to strengthen the bonds between criminal justice involved parents and children, i.e., a reentry process, that will focus on the decision points throughout the continuum from arrest through pre-adjudication to release and the impact on children at each of these points. Ensure that materials submitted are within guidelines listed at the end of this document; and (4) Prepare a PowerPoint presentation and other relevant materials that can be utilized at conference workshops or in local jurisdictions. The awardee will be required to provide project updates through scheduled quarterly meetings with NIC via conference call.

FOR FURTHER INFORMATION CONTACT: All technical or programmatic questions concerning this announcement should be directed to Greg Crawford, Correctional Program Specialist, National Institute of Corrections who may be reached by email at gcrawford@bop.gov. In addition to the direct reply, all questions and responses will be posted on NIC's Web site at www.nicic.gov for public review (the names or affiliations of those submitting questions will not be posted). The Web site will be updated regularly and postings will remain on the Web site until the closing date of this cooperative agreement solicitation.

Application Requirements: Application Requirements: Applications should be typed, double spaced, in 12-point font, and reference the project by the “NIC Opportunity Number” 13CS22 and title in this announcement, “Children of Incarcerated Parents: Arrest Through Pre-Adjudication”. The package must include: A cover letter that identifies the audit agency responsible for the applicant's financial accounts as well as the audit period or fiscal year that the applicant operates under (e.g., July 1 through June 30); a concisely written program narrative, not to exceed 30 numbered pages, in response to the statement of work, and a detailed budget with a budget narrative explaining projected costs. Applicants may submit a description of the project teams' qualifications and expertise relevant to the project, but should not attach lengthy resumes. Attachments to the proposal describing your organization or examples of other past work beyond those specifically requested above are discouraged. These attachments should not exceed 5MB.

The following forms must also be included: OMB Standard Form 424, Application for Federal Assistance; OMB Standard Form 424A, Budget information—Non-Construction Programs; OMB Standard Form 424B, Assurances—Non-Construction Programs (these forms are available at http://www.grants.gov) and DOJ/NIC Certification Regarding Lobbying; Debarment, Suspension and Other Responsibility Matters; and the Drug-Free Workplace Requirements (available at http://nicic.gov/Downloads/General/certif-frm.pdf. Failure to supply all required forms with the application package may result in disqualification of the application from consideration.

Note: NIC will not award a cooperative agreement to an applicant who does not have a Dun and Bradstreet Database Universal Number (DUNS) and is not registered in the Central Contractor Registry (CCR).

A DUNS number can be received at no cost by calling the dedicated toll-free DUNS number request line at 1-800-333-0505 (if you are a sole proprietor, you would dial 1-866-705-5711 and select option 1).

Registration in the CRR can be done online at the CCR Web site: http://www.bpn.gov/ccr. A CCR Handbook and worksheet can also be reviewed at the Web site.

Review Considerations: Applications received under this announcement will be subject to the NIC Review Process. Proposals which fail to provide sufficient information to allow evaluation under the criteria below may be judged non-responsive and disqualified.

The criteria for the evaluation of each application will be as follows:

Programmatic (40%)

Are all of the project tasks adequately discussed? Is there a clear statement of how each task will be accomplished, to include the overall project goal(s), major tasks to achieve the goal(s), the strategies to be employed in completing the tasks, required staffing, and other required resources? Are there any approaches, techniques, or design aspects proposed that are innovative and will enhance the project?

Organizational (35%)

Do the proposed project staff members possess the skills, knowledge, and expertise necessary to complete the tasks listed under the scope of work? Does the applicant organization, group, or individual have the organizational capacity to complete all project tasks? Does the proposal contain project management and staffing plans that are realistic and sufficient to complete the project within the project time frame?

Project Management/Administration (25%)

Does the applicant identify reasonable objectives and/or milestones that reflect the key tasks, and measures to track progress? If consultants and/or partnerships are proposed, is there a reasonable justification for their inclusion in the project, and a clear structure to ensure effective coordination? Is the proposed budget realistic, does it provide a sufficient cost detail/narrative, and does it represent good value relative to the anticipated results?

Specific Requirements: Documents or other media that are produced under this award must follow these guidelines: Prior to the preparation of the final draft of any document or other media, the awardee must consult with NIC's Writer/Editor concerning the acceptable formats for manuscript submissions and the technical specifications for electronic media. For all awards in which a document will be a deliverable, the awardee must follow the guidelines listed herein, as well as follow the Guidelines for Preparing and Submitting Manuscripts for Publication as found in the “General Guidelines for Cooperative Agreements,” which can be found on our Web site at www.nicic.gov/cooperativeagreements.

All final documents and other materials submitted under this project must meet the federal government's requirement for Section 508 accessibility, including those provisions outlined in 1194 Subpart B, Technical Provisions, Subpart C, Functional Performance Criteria; and Subpart D, Documentation and Support, NIC's government product accessibility template (see www.nicic.gov/section508) outlines the agency's minimum criteria for meeting this requirement; a completed form attesting to the accessibility of project deliverables should accompany all submissions.

The Catalog of Federal Domestic Assistance (CFDA) should be entered into box 10 of the SF 424. The CFDA number for this solicitation is 16.602, Research and Policy Formulation. You are not subject to Executive Order 12372 and should check box b under section 16.

Robert M. Brown, Jr.,
Acting Director, National Institute of Corrections.

[FR Doc. 2013-16484 Filed 7-8-13; 8:45 am]

BILLING CODE 4410-36-P